DEPARTMENT OF TRANSPORTATION

Federal Highway Administration

Notice of Final Federal Agency Actions on State Highway (SH) 365 From Farm-to-Market Road (FM) 1016/Conway Avenue to U.S. Highway (US) 281/Military Highway in Hidalgo County, Texas

AGENCY: Federal Highway Administration (FHWA), U.S. DOT.

ACTION: Notice of Limitation on Claims for Judicial Review of Actions by TxDOT and Federal Agencies.

SUMMARY: This notice announces actions taken by Texas Department of Transportation (TxDOT) and Federal agencies that are final within the meaning of 23 U.S.C. 139(l)(1). The actions relate to a proposed highway project, SH 365 from FM 1016/Conway Avenue to US 281/Military Highway in Hidalgo County in the State of Texas. Those actions grant licenses, permits, and approvals for the project.

DATES: By this notice, TxDOT is advising the public of final agency actions subject to 23 U.S.C. 139(l)(1). A claim seeking judicial review of the Federal agency actions on the highway project will be barred unless the claim is filed on or before May 27, 2016. If the Federal law that authorizes judicial review of a claim provides a time period of less than 150 days for filing such claim, then that shorter time period still applies.

FOR FURTHER INFORMATION CONTACT: Mr. Carlos Swonke, P.G., Environmental Affairs Division, Texas Department of Transportation, 125 East 11th Street, Austin, Texas 78701; telephone: (512) 416-2734; email: carlos.swonke@txdot.gov. TxDOT's normal business hours are 8:00 a.m.-5:00 p.m. (central time), Monday through Friday.

SUPPLEMENTARY INFORMATION: Notice is hereby given that TxDOT and Federal agencies have taken final agency actions by issuing licenses, permits, and approvals for the following highway project in the State of Texas: The SH 365 project would initially be developed as a four-lane divided controlled access toll facility divided by a grassy median with Rights-of-Way (ROW) reserved for future widening for the ultimate facility when necessary. The ultimate facility would consist of six travel lanes divided by a flushed median with a concrete barrier. The 16.53-mile-long proposed tolled facility is primarily on new location within a typical 300-foot ROW, which varies from 160 feet to 400 feet. Construction of the proposed project would be in three phases. Phase I construction would include a non-tolled facility from 0.45 mile east of SP 600 to FM 2557 (Stewart Road) along US 281 (Military Highway), including a grade-separated interchange at the SH 365/US 281 (Military Highway) intersection, and a 0.70-mile one way, one-lane non-tolled border safety inspection facility connector from US 281 (Military Road) to SP 29 (Veterans Boulevard). Phase II construction would include a 13.4-mile tolled facility from FM 396 (Anzalduas Highway) to US 281 (Military Highway). Phase III construction would include a 3.13-mile tolled facility from FM 1016 (Conway Avenue) to FM 396 (Anzalduas Highway), with transition westward past FM 1016 (Conway Avenue). The purpose of the project is to improve mobility and interconnectivity in the area, enhance safety, and reduce community disruption because of increasing freight traffic.

The actions by TxDOT and the Federal agencies, and the laws under which such actions were taken, are described in the final Environmental Assessment (EA) issued in June, 2015 for the project, for which a Finding of No Significant Impact (FONSI) was issued on July 2, 2015, and in other documents in the TxDOT administrative record. The EA, FONSI, and other documents in the administrative record file are available by contacting TxDOT at the address provided above. The FONSI may also be viewed and downloaded from the project sponsor Web site at http://www.hcrma.net/sh365.html.

This notice applies to all TxDOT decisions and Federal agency decisions as of the issuance date of this notice and all laws under which such actions were taken, including but not limited to:

1. General: National Environmental Policy Act (NEPA) [42 U.S.C. 4321-4351]; Federal-Aid Highway Act [23 U.S.C. 109].

2. Air: Clean Air Act [42 U.S.C. 7401-7671(q)].

3. Land: Section 4(f) of the Department of Transportation Act of 1966 [49 U.S.C. 303]; Landscaping and Scenic Enhancement (Wildflowers), 23 U.S.C. 319.

4. Wildlife: Endangered Species Act [16 U.S.C. 1531-1544 and Section 1536]; Fish and Wildlife Coordination Act [16 U.S.C. 661-667(d)]; Migratory Bird Treaty Act [16 U.S.C. 703-712].

5. Historic and Cultural Resources: Section 106 of the National Historic Preservation Act of 1966, as amended [16 U.S.C. 470(f) et seq.]; Archeological Resources Protection Act of 1977 [16 U.S.C. 470(aa)-11]; Archeological and Historic Preservation Act [16 U.S.C. 469-469(c)]; Native American Grave Protection and Repatriation Act (NAGPRA) [25 U.S.C. 3001-3013].

6. Social and Economic: Civil Rights Act of 1964 [42 U.S.C. 2000(d)-2000(d)(1)]; American Indian Religious Freedom Act [42 U.S.C. 1996]; Farmland Protection Policy Act (FPPA) [7 U.S.C. 4201-4209].

7. Wetlands and Water Resources: Clean Water Act [33 U.S.C. 1251-1377]; Land and Water Conservation Fund (LWCF) [16 U.S.C. 4601-4604]; Safe Drinking Water Act (SDWA) [42 U.S.C. 300(f)-300(j)(6)]; Rivers and Harbors Act of 1899 [33 U.S.C. 401-406]; Wild and Scenic Rivers Act [16 U.S.C. 1271-1287]; Emergency Wetlands Resources Act [16 U.S.C. 3921, 3931]; TEA-21 Wetlands Mitigation [23 U.S.C. 103(b)(6)(m), 133(b)(11)]; Flood Disaster Protection Act [42 U.S.C. 4001-4128].

8. Executive Orders: E.O. 11990, Protection of Wetlands; E.O. 11988, Floodplain Management; E.O. 12898, Federal Actions to Address Environmental Justice in Minority Populations and Low Income Populations; E.O. 11593, Protection and Enhancement of Cultural Resources; E.O. 13007, Indian Sacred Sites; E.O. 13287, Preserve America; E.O. 13175, Consultation and Coordination with Indian Tribal Governments; E.O. 11514, Protection and Enhancement of Environmental Quality; E.O. 13112, Invasive Species; E.O. 12372, Intergovernmental Review of Federal Programs.

The environmental review, consultation, and other actions required by applicable Federal environmental laws for this project are being, or have been, carried-out by TxDOT pursuant to 23 U.S.C. 327 and a Memorandum of Understanding dated December 16, 2014, and executed by FHWA and TxDOT.

Authority: 23 U.S.C. 139(l)(1).

Issued on: December 17, 2015.
Michael T. Leary,
Director, Planning and Program Development, Federal Highway Administration.

[FR Doc. 2015-32521 Filed 12-28-15; 8:45 am]

BILLING CODE 4910-22-P